DEPARTMENT OF HEALTH AND HUMAN SERVICES

Food and Drug Administration

21 CFR Part 101

[Docket No. 2001N-0548] (formerly 01N-0548)

Food Labeling; Guidelines for Voluntary Nutrition Labeling of Raw Fruits, Vegetables, and Fish; Correction

AGENCY: Food and Drug Administration, HHS.

ACTION: Final rule; correction.

SUMMARY: The Food and Drug Administration (FDA) is correcting a final rule that appeared in the Federal Register of July 25, 2006 (71 FR 42031). The document amended the voluntary nutrition labeling regulations by updating the names and the nutrition labeling values for the 20 most frequently consumed raw fruits, vegetables, and fish in the United States. The document published with incorrect units of measures for nutrients and an incorrect number in the Final Regulatory Impact Analysis section. This document corrects those errors.

EFFECTIVE DATE: January 1, 2008.

FOR FURTHER INFORMATION CONTACT: Mary Brandt, Center for Food Safety and Applied Nutrition (HFS-840), Food and Drug Administration, 5100 Paint Branch Pkwy., College Park, MD 20740, 301-436-1788.

SUPPLEMENTARY INFORMATION: In FR Doc. 06-6436, appearing in the Federal Register of Tuesday, July 25, 2006, the following corrections are made:

1. On page 42037, in the third column, in the first full paragraph, in the fourth sentence, “total carbohydrate (34 g, 11 percent DV, from 21 mg, 7 percent DV)” is corrected to read “total carbohydrate (34 g, 11 percent DV, from 21 g, 7 percent DV)”.

2. On page 42037, in Table 1, in the second and fourth columns for Apples, Total Carbohydrate, “21 mg” and “34 mg” are corrected to read “21 g” and “34 g”.

3. On page 42038, in Table 1, in the fourth column for Tangerine, Sodium, “0 g” is corrected to read “0 mg”.

4. On page 42038, in Table 1, in the second and fourth columns for Mushrooms, Sodium, “0 g” and “15 g” are corrected to read “0 mg” and “15 mg”.

5. On page 42041, in the third column, in the first full paragraph, in the second sentence, “one-half of the 48,000 to 68,000 stores” is corrected to read “one-half of the 48,000 to 63,000 stores”.

6. On pages 42045 through 42047, in Appendices C and D, the unit of measure for Total Carbohydrate, “(mg)” is corrected to read “(g)”; Appendices C and D to part 101 are corrected to read as follows:

BILLING CODE 4160-01-S

Dated: August 10, 2006.
Jeffrey Shuren,
Assistant Commissioner for Policy.

[FR Doc. 06-6957 Filed 8-16-06; 8:45 am]

BILLING CODE 4160-01-C